DEPARTMENT OF HOUSING AND URBAN DEVELOPMENT

[Docket No. FR-7056-N-01]

60-Day Notice of Proposed Information Collection: Home Mortgage Disclosure Act (HMDA) Loan/Application Register

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: April 8, 2022.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Stacey Shindelar, Office of Risk Management and Regulatory Affairs, Department of Housing and Urban Development, 451 7th Street SW, Washington, DC 20410; email Stacey Shindelar, at Stacey.L.Shindelar@hud.gov or telephone (202) 402-2569. This is not a toll-free number. Persons with hearing or speech impairments may access this number through TTY by calling the toll-free Federal Relay Service at (800) 877-8339. Copies of available documents submitted to OMB may be obtained from Ms. Shindelar.

SUPPLEMENTARY INFORMATION: This notice informs the public that HUD is seeking approval from OMB for the information collection described in Section A.

A. Overview of Information Collection

Title of Information Collection: Home Mortgage Disclosure Act (HMDA) Loan/Application Register.

OMB Approval Number: 2502-0539.

Type of Request (i.e., new, revision or extension of currently approved collection): Revision of a currently approved collection.

Form Number: FR HUMDA-LAR.

Description of the need for the information and proposed use: The HMDA Loan/Application Register collects information from mortgage lenders on application for, and originations and purchases of, mortgage and home improvement loans. Non-depository mortgage lending institutions are required to use the information generated as a running log throughout the calendar year and send the information to HUD by March 1 of the following calendar year.

Respondents (i.e., affected public): Business and Other for-profit; Not-for-profit institutions.

Estimated Number of Respondents: 903.

Estimated Number of Responses: 1,056.

Frequency of Response: On Occasion/Quarterly/Annually.

Average Hours per Response: 120.

Total Estimated Burdens: 2,245,563 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Janet M. Golrick,
Acting, Chief of Staff for the Office of Housing—Federal Housing Administration.

[FR Doc. 2022-02439 Filed 2-4-22; 8:45 am]

BILLING CODE 4210-67-P